NATIONAL FOUNDATION ON THE ARTS AND THE HUMANITIES

National Endowment for the Arts; Leadership Initiatives Advisory Panel

Pursuant to section 10(a)(2) of the Federal Advisory Committee Act (Public Law 92-463), as amended, notice is hereby given that a teleconference meeting of the Leadership Initiatives Advisory Panel (Arts Journalism Institutes section) to the National Council on the Arts will be held from Room 620 at the Nancy Hanks Center, 1100 Pennsylvania Avenue, NW., Washington, DC 20506 on Monday, March 25, 2004, from 3 p.m. to 3:30 p.m. e.s.t.

This meeting will be open to the public. The discussion will cover issues related to development of the Arts Journalism Institutes and other business as necessary.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, NW., Washington, DC 20506, 202/682-5532, TDY-TDD 202/682-5496, at least seven (7) days prior to the meeting.

Further information with reference to this meeting can be obtained from Ms. Kathy Plowitz-Worden, Office of Guidelines & Panel Operations, National Endowment for the Arts, Washington, DC 20506, or call 202/682-5691.

Further information with reference to this meeting can be obtained from Ms. Kathy Plowitz-Worden, Panel Coordinator, National Endowment for the Arts, Washington, DC 20506, or call 202/682-5691.

Dated: February 18, 2004.
Kathy Plowitz-Worden,
Panel Coordinator, Panel Operations, National Endowment for the Arts.

[FR Doc. 04-3879 Filed 2-23-04; 8:45 am]

BILLING CODE 7537-01-P